DEPARTMENT OF DEFENSE

GENERAL SERVICES ADMINISTRATION

NATIONAL AERONAUTICS AND SPACE ADMINISTRATION

[OMB Control No. 9000-0011; Docket 2016-0053; Sequence 35]

Information Collection; Preaward Survey Forms (Standard Forms 1403, 1404, 1405, 1406, 1407, and 1408)

AGENCY: Department of Defense (DOD), General Services Administration (GSA), and National Aeronautics and Space Administration (NASA).

ACTION: Notice of request for comments regarding an extension to an existing OMB clearance.

SUMMARY: Under the provisions of the Paperwork Reduction Act, the Regulatory Secretariat Division will be submitting to the Office of Management and Budget (OMB) a request to review and approve an extension of a previously approved information collection requirement concerning preaward survey forms (Standard Forms 1403, 1404, 1405, 1406, 1407, and 1408).

DATES: Submit comments on or before January 9, 2017.

ADDRESSES: Submit comments identified by Information Collection 9000-0011, Preaward Survey Forms, (Standard Forms 1403, 1404, 1405, 1406, 1407, and 1408) by any of the following methods:

• Regulations.gov: http://www.regulations.gov. Submit comments via the Federal eRulemaking portal by searching the OMB control number. Follow the instructions provided at the “Submit a Comment” screen. Please include your name, company name (if any), and “Information Collection 9000-0011, Preaward Survey Forms, (Standard Forms 1403, 1404, 1405, 1406, 1407, and 1408)” on your attached document.

• Mail: General Services Administration, Regulatory Secretariat Division (MVCB), 1800 F Street NW., Washington, DC 20405. ATTN: Ms. Flowers/IC 9000-0011.

Instructions: Please submit comments only and cite Information Collection 9000-0011, Preaward Survey Forms, (Standard Forms 1403, 1404, 1405, 1406, 1407, and 1408), in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, Office of Governmentwide Acquisition Policy, GSA, 202-219-0202 or email cecelia.davis@gsa.gov.

SUPPLEMENTARY INFORMATION:

A. Purpose

To protect the Government's interest and to ensure timely delivery of items of the requisite quality, contracting officers, prior to award, must make an affirmative determination that the prospective contractor is responsible, i.e., capable of performing the contract. Before making such a determination, the contracting officer must have in his possession or must obtain information sufficient to satisfy himself that the prospective contractor: (i) Has adequate financial resources, or the ability to obtain such resources; (ii) is able to comply with required delivery schedule; (iii) has a satisfactory record of performance; (iv) has a satisfactory record of integrity; and (v) is otherwise qualified and eligible to receive an award under appropriate laws and regulations. If such information is not in the contracting officer's possession, it is obtained through a preaward survey conducted by the contract administration office responsible for the plant and/or the geographic area in which the plant is located. The necessary data is collected by contract administration personnel from available data or through plant visits, phone calls, and correspondence. This data is entered on Standard Forms 1403, 1404, 1405, 1406, 1407, and 1408 in detail commensurate with the dollar value and complexity of the procurement. These standard forms are not cumulative. The surveying activity completes only the applicable standard form(s) necessary to determine contractor responsibility in each case.

B. Annual Reporting Burden

There are no Governmentwide systems for collecting the number of preaward surveys completed in a fiscal year as preaward surveys are only required in limited circumstances where information for the prospective contractor cannot be obtained by the contracting officer to make an affirmative statement of responsibility. Further, if the contemplated contract will have a fixed price at or below the $150,000 simplified acquisition threshold (SAT) or will involve the acquisition of commercial items (see Part 12); the contracting officer should not request a preaward survey unless circumstances justify its cost.

Using parameters identified above a Federal Procurement Data System (FPDS) ad hoc report was completed identifying that in Fiscal Year (FY) 2015 an estimated total of 24,791 contracts were awarded Governmentwide that were over the SAT, and for which commercial acquisition procedures were not used. Of that number, it is estimated that preaward surveys were completed for 15 percent, or 3,719 of the 24,791 contracts that were awarded. Of the six Standard Forms (1403, 1404, 1405, 1406, 1407, and 1408), we estimated that Standard Form 1403 is used most frequently because it is a general form and accounts for 30 percent or 1,116 times, Standard Forms 1404 and 1407 account for 15 percent or 558 times, Standard Form 1408 accounts for 20 percent or 744 times, and Standard Forms 1405 and 1406 account 10 percent or 372 times.

After consultation with subject matter experts, it was determined that the time required to prepare and complete the Standard Forms is estimated at 24 hours per response. Because preaward survey data is generally used for multiple contracts awarded within a 12 month period, it is estimated that only one (1) response would be reported annually per respondent per form.

Standard Form 1403—Preaward Survey of Prospective Contractor (General)

Respondents: 1,116.

Responses Annually: 1.

Total Responses: 1,116.

Hours per Response: 24.

Total Burden Hours: 26,784.

Standard Form 1404—Preaward Survey of Prospective Contractor Technical

Respondents: 558.

Responses Annually: 1.

Total Responses: 558.

Hours per Response: 24.

Total Burden Hours: 13,392.

Standard Form 1405—Preaward Survey of Prospective Contractor Production

Respondents: 372.

Responses Annually: 1.

Total Responses: 372.

Hours per Response: 24.

Total Burden Hours: 8,928.

Standard Form 1406—Preaward Survey of Prospective Contractor Quality Assurance

Respondents: 372.

Responses Annually: 1.

Total Responses: 372.

Hours per Response: 24.

Total Burden Hours: 8,928.

Standard Form 1407—Preaward Survey of Prospective Contractor Financial Capability

Respondents: 558.

Responses Annually: 1.

Total Responses: 558.

Hours per Response: 24.

Total Burden Hours: 13,392.

Standard Form 1408—Preaward Survey of Prospective Contractor Accounting System

Respondents: 744.

Responses Annually: 1.

Total Responses: 744.

Hours per Response: 24.

Total Burden Hours: 17,856.

C. Public Comments

Public comments are particularly invited on: Whether this collection of information is necessary for the proper performance of functions of the Federal Acquisition Regulations (FAR), and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control Number 9000-0011, Preaward Survey Forms (Standard Forms 1403, 1404, 1405, 1406, 1407, and 1408), in all correspondence.

Dated: November 3, 2016.
Lorin S. Curit,
Director, Federal Acquisition Policy Division, Office of Government-wide Acquisition Policy, Office of Acquisition Policy, Office of Government-wide Policy.

[FR Doc. 2016-26948 Filed 11-7-16; 8:45 am]

BILLING CODE 6820-EP-P